Executive Order 14056 of December 1, 2021

The National Space Council

By the authority vested in me as President by the Constitution and the laws of the United States of America, it is hereby ordered as follows:

Section 1. Purpose. The National Space Council (Council), as authorized under Title V of Public Law 100-685, advises and assists the President regarding national space policy and strategy. This order sets forth the Council's membership, duties, and responsibilities.

Sec. 2. Membership of the National Space Council. The Council shall be composed of:

(a) the Vice President, who shall be Chair of the Council;

(b) the Secretary of State;

(c) the Secretary of Defense;

(d) the Secretary of the Interior;

(e) the Secretary of Agriculture;

(f) the Secretary of Commerce;

(g) the Secretary of Labor;

(h) the Secretary of Transportation;

(i) the Secretary of Energy;

(j) the Secretary of Education;

(k) the Secretary of Homeland Security;

(l) the Director of the Office of Management and Budget;

(m) the Director of National Intelligence;

(n) the Director of the Office of Science and Technology Policy;

(o) the Assistant to the President for National Security Affairs;

(p) the Assistant to the President for Economic Policy;

(q) the Assistant to the President for Domestic Policy;

(r) the Assistant to the President and National Climate Advisor;

(s) the Chairman of the Joint Chiefs of Staff;

(t) the Administrator of the National Aeronautics and Space Administration; and

(u) the heads of other executive departments and agencies (agencies) and other senior officials within the Executive Office of the President, as determined by the Chair.

Sec. 3. Functions and Operations of the Council. (a) The Council shall advise and assist the President on space policy and strategy. In particular, it shall:

(i) review, develop, and provide recommendations to the President on space policy and strategy;

(ii) coordinate implementation of space policy and strategy;

(iii) synchronize the Nation's civil, commercial, and national security space activities in furtherance of the objectives of the President's national space policy and strategy;

(iv) facilitate resolution of differences among agencies on space-related policy and strategy matters;

(v) enable interagency cooperation, coordination, and information exchange on space activities; and

(vi) perform such other duties as the President may, from time to time, prescribe.

(b) The operation of the Council shall not interfere with the existing lines of authority in or responsibilities of any agency.

(c) The Council shall have a staff, headed by a civilian Executive Secretary appointed by the President.

(d) The Council shall meet at least annually.

(e) The Council shall consider and provide recommendations to the President on any space-related issue as determined by the Chair.

Sec. 4. Responsibilities of the Chair. (a) The Chair shall serve as the President's principal advisor on national space policy and strategy.

(b) The Chair shall establish procedures and set the agenda for Council sessions to address Presidential priorities.

(c) The Chair may recommend to the President candidates for the position of Executive Secretary.

(d) The Chair may invite the heads of other agencies, other senior officials in the Executive Office of the President, and other Federal employees to participate in Council meetings.

(e) The Chair or, upon the Chair's direction, the Executive Secretary, may develop budget recommendations for submission to the Director of the Office of Management and Budget that reflect the President's space policy and strategy, as well as provide advice concerning budget submissions by agencies related to the President's space policies and strategies.

Sec. 5. National Space Policy Planning Process. (a) The Council shall establish a process for developing and coordinating the implementation of national space policy and strategy.

(b) The head of each agency that conducts space-related activities shall, to the extent permitted by law, conform such activities to the President's national space policy and strategy.

(c) On space matters relating primarily to national security, the Council shall coordinate with the National Security Council (NSC) to develop space policy and strategy consistent with NSC priorities and practices.

Sec. 6. Users' Advisory Group. (a) The Council shall convene a Users' Advisory Group (Group) pursuant to section 121 of Public Law 101-611, composed of non-Federal representatives of industries and other persons involved in aeronautical and space activities.

(b) Members of the Group shall serve without compensation for their work for the Group. Members of the Group, while engaged in the work of the Group, may be allowed travel expenses, including per diem in lieu of subsistence, to the extent permitted by law for persons serving intermittently in Government service (5 U.S.C. 5701-5707), consistent with the availability of funds.

(c) The Group shall report directly to the Council and shall provide advice or work product solely to the Council.

(d) The Group shall provide advice and recommendations to the Council on matters related to space policy and strategy, including Government policies, laws, regulations, treaties, international instruments, programs, and practices across the civil, commercial, and national security space sectors.

Sec. 7. Administrative Provisions. (a) To aid in the performance of the functions of the Council:

(i) the Office of Administration in the Executive Office of the President shall provide administrative support to the Council, to the extent permitted by law and within existing appropriations; and

(ii) legal advice to the Council with respect to its work and functions shall be provided exclusively by the Office of the Counsel to the President and the Counsel to the Vice President.

(b) To the extent practicable and permitted by law, including the Economy Act (31 U.S.C. 1535), and within existing appropriations, agencies serving on the Council, components of the Executive Office of the President, and interagency councils and committees that affect space policy or strategy shall make resources, including personnel, office support, and printing, available to the Council as reasonably requested by the Chair or, upon the Chair's direction, the Executive Secretary.

(c) Agencies shall cooperate with the Council through the Chair, or upon the Chair's request, the Executive Secretary, and provide such information and advice to the Council as it may reasonably request, to the extent permitted by law, including information regarding agencies' current and planned space activities.

(d) This order supersedes Executive Order 13803 of June 30, 2017 (Reviving the National Space Council), and Executive Order 13906 of February 13, 2020 (Amending Executive Order 13803—Reviving the National Space Council), and those orders are revoked. To the extent this order is inconsistent with any provision of any previous Executive Order or Presidential Memorandum, this order shall control.

(e) If any provision of this order or the application of such provision is held to be invalid, the remainder of this order and other dissimilar applications of such provision shall not be affected.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 1, 2021.

[FR Doc. 2021-26459

Filed 12-2-21; 11:15 am]

Billing code 3395-F2-P